DEPARTMENT OF LABOR

Employment Standards Administration

Proposed Extension of the Approval of Information Collection Requirements

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend OMB approval of the information collection: Regulations Governing the Administration of the Longshore and Harbor Workers' Compensation Act (ESA-100, LS-200, LS-201, LS-203, LS-204, LS-262, LS-267, LS-271, LS-274, LS-513). A copy of the proposed information collection request can be obtained by contacting the office listed below in the addresses section of this Notice.

DATES: Written comments must be submitted to the office listed in the addresses section below on or before April 20, 2009.

ADDRESSES: Mr. Steven D. Lawrence, U.S. Department of Labor, 200 Constitution Ave., NW., Room S-3201, Washington, DC 20210, telephone (202) 693-0292, fax (202) 693-1451, E-mail Lawrence.Steven@dol.gov. Please use only one method of transmission for comments (mail, fax, or E-mail).

SUPPLEMENTARY INFORMATION: I. Background: The Office of Workers' Compensation Programs (OWCP) administers the Longshore and Harbor Workers' Compensation Act (LHWCA). LHWCA provides benefits to workers injured in maritime employment on the navigable waters of the United States or in an adjoining area customarily used by an employer in loading, unloading, repairing, or building a vessel. In addition, several Acts extend the Longshore Act's coverage to certain other employees. The following regulations have been developed to implement the Act's provisions and to provide clarification in those areas where it was deemed necessary (20 CFR 702.162, 702.174, 702.175, 20 CFR 702.242, 20 CFR 702.285, 702.321, 702.201, and 702.111). In some cases, prior regulations have been updated and changed either to reflect the intent of the amended Act or to correct recognized deficiencies.

This information collection is currently approved for use through August 31, 2009.

II. Review Focus: The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The DOL seeks the approval for the extension of this currently approved information collection.

Type of Review: Extension.

Agency: Employment Standards Administration.

Title: Regulations Governing the Administration of the Longshore and Harbor Workers' Compensation Act.

OMB Number: 1215-0160.

Agency Number: (ESA-100, LS-200, LS-201, LS-203, LS-204, LS-262, LS-267, LS-271, LS-274, LS-513).

Affected Public: Individuals or households, Businesses or other for-profit.

Total Respondents: 181,956.

Total Responses: 181,956.

Time Per Response: 37 minutes.

Frequency: On Occasion and Annually.

Estimated Total Burden Hours: 66,536.

Total Burden Cost (capital/startup): $0.

Total Burden Cost (operating/maintenance): $68,585.

Burden summary | Hours
LS-200 (20 CFR 702.285) | 2,440
20 CFR 702.162 (Liens) | 5
20 CFR 702.174 (Certifications) | 4
20 CFR 702.175 (Reinstatements) | 1
20 CFR 702.242 (Settlement Applications | 10,080
20 CFR 702.321 (Section 8(f) Payments) | 2,425
ESA-100 (20 CFR 702.201) | 840
LS-271 (Self Insurance Application) | 40
LS-274 (Injury Report of Insurance Carrier and Self-Insured Employer) | 563
LS-201 (Injury or Death Notice) | 1,150
LS-513 (Payment Report) | 282
LS-267 (Claimant's Statement) | 48
LS-203 (Employee Comp. Claim) | 2,588
LS-204 (Medical Report) | 46,000
LS-262 (Claim for Death Benefits) | 70
Total Burden Hours | 66,536

Comments submitted in response to this notice will be summarized and/or included in the request for Office of Management and Budget approval of the information collection request; they will also become a matter of public record.

Dated: February 12, 2009.
Hazel Bell,
Acting Chief, Branch of Management Review and Internal Control, Division of Financial Management, Office of Management, Administration and Planning, Employment Standards Administration.

[FR Doc. E9-3432 Filed 2-17-09; 8:45 am]

BILLING CODE 4510-CF-P